DEPARTMENT OF COMMERCE

National Oceanic and Atmospheric Administration

[I.D. 020105H]

Western Pacific Fishery Management Council; Public Meeting

AGENCY: National Marine Fisheries Service (NMFS), National Oceanic and Atmospheric Administration (NOAA), Commerce.

ACTION: Notice of a public meeting.

SUMMARY: The 88th meeting of the Western Pacific Fishery Council's (Council) Scientific and Statistical Committee (SSC) will convene February 22-24, 2005, in Honolulu, HI.

DATES: The SSC meeting will be held from 8:30 a.m. to 5 p.m. each day.

ADDRESSES: The 88th SSC meeting will be held at the Western Pacific Fishery Management Council Office conference room, 1164 Bishop St., Suite 1400, Honolulu, HI; phone: (808) 522-8220.

FOR FURTHER INFORMATION CONTACT: Kitty M. Simonds, Executive Director; phone: (808) 522-8220.

SUPPLEMENTARY INFORMATION: The SSC will discuss and may make recommendations to the Council on the agenda items here. The order in which agenda items will be addressed can change.

Agenda

Tuesday, February 22, 2005, 8:30 a.m.

1. Introductions

2. Approval of Draft Agenda and Assignment of Rapporteurs

3. Approval of the Minutes of the 87th SSC Meeting

4. Ecosystem and Habitat

A. Northwestern Hawaiian Islands (NWHI) Sanctuary

1. Background Information and Alternatives

2. Report on Public Hearings

B. NWHI Science Symposium Report

C. MPA Objectives and Criteria Draft Document

D. Ecosystem Workshop Agenda

E. Essential Fish Habitat Guidance Revisions

F. Coral Reef Plan Team Recommendations

G. Public Comment

H. Discussion and Recommendations

3. Insular Fisheries

A. Initial Action on Commonwealth of the Northern Mariana Islands Bottomfish Management

B. Update on Black Coral Research

C. Public Comment

D. Discussion and Recommendations

Wednesday, February 23, 2005, 8:30 a.m.

4. Pelagics Fisheries

A. Bigeye Overfishing Plan

B. Joint Pacific Council and Western Pacific Council Meeting

C. American Samoa & Hawaii Longline Fisheries 2004 Fourth Quarter Reports

D. International Issues

1. 7th Preparatory Conference & First Meeting of the Western and Central Pacific Fishery Management Commission.

2. Food & Agriculture Organization (FAO) Technical Consultation on Turtles

3. Third International Fishers Forum (IFF3)

E. Plan Team Recommendations

F. Public Comment

G. Discussion and Recommendations

7. Protected Species

A. Sea Turtles

1. 25th Annual Sea Turtle Symposium

2. Results from First Year of Conservation Measures

B. Marine Mammals

C. Petition to list Black Footed Albatross (BFAL) under the Endangered Species Act (ESA)

D. Public Comment

E. Discussion and Recommendations

Thursday, February 24, 2005, 8:30 a.m.

8. Other Business

A. 89th SSC meeting

9. Summary of SSC Recommendations to the Council—Paul Callaghan

Special Accommodations

This meeting is physically accessible to people with disabilities. Requests for sign language interpretation or other auxiliary aids should be directed to Kitty M. Simonds, (808) 522-8220 (voice) or (808) 522-8226 (fax), at least 5 days prior to meeting date.

Dated: February 2, 2005.
Alan D. Risenhoover,
Acting Director, Office of Sustainable Fisheries, National Marine Fisheries Service.

[FR Doc. E5-482 Filed 2-4-05; 8:45 am]

BILLING CODE 3510-22-S